DEPARTMENT OF HEALTH AND HUMAN SERVICES

[Document Identifier: OS-0990-New]

Agency Information Collection Request. 60-Day Public Comment Request

AGENCY: Office of the Secretary, Office of the National Coordinator for Health Information Technology (ONC), HHS

In compliance with the requirement of section 3506(c)(2)(A) of the Paperwork Reduction Act of 1995, the Office of the Secretary (OS), Department of Health and Human Services, is publishing the following summary of a proposed information collection request for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden. To obtain copies of the supporting statement and any related forms for the proposed paperwork collections referenced above, e-mail your request, including your address, phone number, OMB number, and OS document identifier, to Sherette.funncoleman@hhs.gov, or call the Reports Clearance Office on (202) 690-6162. Written comments and recommendations for the proposed information collections must be directed to the OS Paperwork Clearance Officer at the above e-mail address within 60 days.

Proposed Project: Evaluation of the IT Professionals in Health Care—OMB No. 0990—NEW—Office of the National Coordinator for Health Information Technology (ONC).

Abstract: The Office of the National Coordinator for Health Information Technology (ONC) Office of the Chief Scientist is soliciting comments on a series of data collection efforts for the Evaluation of the IT Professionals in Health Care. The Workforce Program, created under Section 3016 of the HITECH Act, was intended to provide “assistance to institutions of higher education (or consortia thereof) to establish or expand health informatics education programs, including certification, undergraduate, and masters degree programs, for both health care and information technology students.” The evaluation of the Workforce Program is a new information collection activity which will explore program challenges, provide critical formative feedback to the Workforce grantee institutions on their activities, and determine whether the Workforce Program overall was successful in helping to build a skilled workforce equipped to meet the heightened demands of the current environment. The data collection efforts include: A Web-based baseline survey of community college students; course evaluation forms; focus groups with students, faculty members, and competency exam takers; and a Web-based survey of community college faculty.

Estimated Annualized Burden Table
Forms | Type of respondent | Number of respondents | Number of responses per respondent | Average burden hours per response | Total burden hours
Web-based student baseline survey | Students enrolled in workforce program | 1,350 | 1 | 20/60 | 450
Focus groups with students | Students enrolled in workforce program | 256 | 1 | 1.5 | 384
Focus groups with faculty | Instructors from workforce program | 50 | 1 | 1.5 | 75
Focus groups with exam takers | Competency exam takers not enrolled in workforce program | 32 | 1 | 1.5 | 48
Web-based faculty survey | Instructors from workforce program | 300 | 1 | 10/60 | 50
Total |  |  |  |  | 1,007

Seleda Perryman,
Office of the Secretary, Paperwork Reduction Act Clearance Officer.

[FR Doc. 2010-21070 Filed 8-24-10; 8:45 am]

BILLING CODE 4150-45-P